DEPARTMENT OF THE INTERIOR

Bureau of Land Management

[CO-930-1430-01; COC-1661]

Proposed Withdrawal; Opportunity for Public Meeting; Colorado

AGENCY: Bureau of Land Management, Interior.

ACTION: Notice.

SUMMARY: The Fish and Wildlife Service proposes to withdraw approximately 5,922 acres of public lands for 20 years to protect the Browns Park National Wildlife Refuge. This notice closes these lands to operation of the public land laws including location and entry under the mining laws for up to two years. The lands have been and remain open to mineral leasing.

DATES: Comments on this proposed withdrawal must be received on or before October 10, 2000.

ADDRESSES: Comments should be sent to the Colorado State Director, BLM, 2850 Youngfield Street, Lakewood, Colorado 80215-7076.

FOR FURTHER INFORMATION CONTACT: Doris E. Chelius, 303-239-3706.

SUPPLEMENTARY INFORMATION: On June 12, 2000, a petition was approved allowing the Fish and Wildlife Service to file an application to withdraw the following described public lands from settlement, sale, location, or entry under the general land laws, including the mining laws, subject to valid existing rights, and transfer administrative jurisdiction to the Fish and Wildlife Service:

Sixth Principal Meridian

T. 10 N., R 102 W.,

Sec. 18, lots 7 and 8, E½SW¼, SW¼SE¼, and those portions of lots 6 and 9, SW¼NE¼, SE¼NW¼, NW¼SE¼, and NE¼SE¼ lying south and west of the centerline of County Route 318;

Sec. 19, lots 5, 6, and 12, NW¼NE¼, SW¼NE¼, NE¼NW¼ and those portions of lot 10 and SE½NE¼ lying south and west of the centerline of County Route 318;

Sec. 20, SW¼SW¼ and those portions of the SW¼NW¼, NW¼SW¼, NE¼SW¼, and SE¼SW¼, lying south and west of the centerline of County Route 318;

Sec. 29, SW¼, W½NW¼, SE¼NW¼, and those portions of the SW¼NE¼, NE¼NW¼, NW¼SE¼, SW¼SE¼, and SE¼SE¼ lying south and west of the centerline of County Route 318;

Sec. 32, lot 3, NW¼NE¼ and that portion of lot 1 lying south and west of the centerline of County Route 318.

T. 10 N., R. 103 W.,

Sec. 4, SW¼SW¼, and those portions of the SW¼NW¼, NW¼SW¼, NE¼SW¼, SE¼SW¼, and SW¼SE¼ lying south and west of the centerline of County Route 318;

Sec. 5, lots 7 and 8, S½, S½NW¼, SW¼NE¼, and those portions of lots 5 and 6, and SE¼NE¼, lying south and west of the centerline of County Route 318;

Sec. 6, lots 8, 9, 21,and 22, SE¼NE¼, NE¼SE¼, and S½SE¼;

Sec. 7, N½NE¼;

Sec. 8, N½N½;

Sec. 9, N½NW¼, NW¼NE¼, and that portion of the NE¼NE¼ lying south and west of the centerline of County Route 318;

Sec. 10, SW¼NW¼, SW¼, SW¼SE¼, and those portions of the N½NW¼, SW¼NE¼, NW¼SE¼, SE¼SE¼, and NE¼SW¼ lying south and west of the centerline of County Route 318;

Sec. 11, that portion of the S½S½ lying south and west of the centerline of County Route 318;

Sec. 12, that portion of the SW¼SW¼ lying south and west of the centerline of County Route 318;

Sec. 13, S½, S½NW¼, and that portion of the NW¼NE¼, N½NW¼, and S½NE¼ lying south and west of the centerline of County Route 318;

Sec. 14, N½, SE¼, and N½SW¼;

Sec. 23, NE¼;

Sec. 24, N½.

T. 10 N., R 104 W.,

Sec. 1, lots 9, 10, 11, 14 thru 19 inclusive, E½SW¼.

T. 11 N., R. 103 W.,

Sec 31, S½SE¼ lying south of the centerline of County Highway 318;

Sec 32, S½SW¼ lying south and west of the centerline of County Route 318.

T. 11 N., R. 104 W.,

Sec. 24, lot 4 and SE¼SW¼;

Sec. 25, lots 1 thru 5 inclusive, 7, 12, 22, 24, and 25, and SW¼SW¼;

Sec. 36, lots 1, 2, 8 thru 13 inclusive, and 20 thru 25 inclusive, and NE¼NW¼.

The area described contains approximately 5,922 acres in Moffat County.

For a period of 90 days from the date of publication of this notice, all parties who wish to submit comments, suggestions, or objections in connection with this proposed action, may present their views in writing to the Colorado State Director. A public meeting will be scheduled and held, the meeting will be conducted in accordance with 43 CFR 2310.3-1(c)(2).

This application will be processed in accordance with the regulations set forth in 43 CFR Part 2310.

For a period of two years from the date of publication in the Federal Register, these lands will be segregated as specified above unless the application is denied or canceled or the withdrawal is approved prior to that date. During this period the Bureau of Land Management, in conjunction with the Fish and Wildlife Service, will continue to manage this land.

Herbert K. Olson,
Acting Realty Officer.

[FR Doc. 00-17479 Filed 7-10-00; 8:45 am]

BILLING CODE 4310-JB-U